DEPARTMENT OF AGRICULTURE

Forest Service

Intermountain Region, Boise, Payette, and Sawtooth National Forests; Amendment to the 2003 Land and Resource Management Plans

AGENCY: Forest Service, USDA.

ACTION: Notice of intent (NOI) to prepare an environmental impact statement (EIS).

SUMMARY: The Forest Service will prepare an Environmental Impact Statement (EIS) to disclose the environmental effects of proposed nonsignificant amendments to the three Southwest Idaho Ecogroup (SWIE) 2003 Land and Resource Management Plans (Forest Plans). Amendments to the 2003 Forest Plans for the Boise, Payette, and Sawtooth National Forests will add, and/or modify existing, management direction, as needed, to implement a comprehensive, Forest Plan-level, wildlife conservation strategy (WCS). This WCS will identify both short- and long-term management strategies and priorities for maintaining and restoring habitats associated with terrestrial wildlife species. The proposed nonsignificant amendments will provide management direction and guidance that focuses on those habitats, and their associated species, identified in the WCS as being of greatest conservation concern during the current planning period (i.e., next 10-15 years).

DATES: Comments concerning the scope of the analysis must be received within 30 days following the date of publication of this NOI. The Draft EIS is expected to be available in mid- to late-winter 2008 for a 90-day comment period. The single Final EIS and three RODs, one for each Forest Plan, are expected to be completed by late summer 2008.

ADDRESSES: Send written comments to Randall Hayman, Forest Planner, Boise National Forest; 1249 South Vinnell Way, Suite 200; Boise, Idaho 83709; or by fax at 208-373-4111; or you may hand-deliver your comments to the Boise Forest Supervisor's Office, located at 1249 South Vinnell Way, Suite 200, Boise, during normal business hours from 7:30 a.m. to 4:30 p.m., Monday through Friday, excluding Federal holidays. Electronic comments must be submitted in a format such as an e-mail message, plain text (.txt), rich text format (.rtf), or Word (.doc) to: comments-intermtn-boise@fs.fed.us.

FOR FURTHER INFORMATION CONTACT: Randall Hayman, Forest Planner, Boise National Forest at the address above.

SUPPLEMENTARY INFORMATION: Separate RODs for revised Forest Plans were issued in July 2003 for each of the SWIE National Forests (Boise, Payette, and Sawtooth). The RODs implemented Alternative 7, as identified in the single FINAL EIS that disclosed the environmental effects of the seven alternative Forest Plan strategies considered for these three National Forests. Implementation of the three revised Forest Plans began in September 2003.

Analyses supporting Forest Plan Revision identified wildlife habitats that had declined from historical conditions and associated these habitats with species of conservation concern (2003 Final EIS, pp. 3-255 to 3-289). Based on an update to the 2003 multi-scale analysis initiated in 2005, the Forest Supervisors for the three Forests are in the process of identifying priorities for maintaining and restoring habitats during the current 10-15 year planning period, as part of the comprehensive WCS. The WCS will also identify priorities for longer-term maintenance and restoration for other habitats that have experienced varying levels of decline.

The analysis supporting the revised Forest Plans, and subsequent updates to this multi-scale analysis, were developed using the principles and scientific methods generated during the Interior Columbia Basin Ecosystem Management Project (Boise Forest Plan, p. II-41; Payette Forest Plan, p. II-41; Sawtooth Forest Plan, p. II-38). The updated analysis also incorporates new information generated after the Forest Plans were revised in July 2003, including best available science as of this date. New information includes mid-scale assessments such as the 2005 Comprehensive Wildlife Conservation Strategies for the States of Idaho and Utah, respectively, and the 2006 Conservation Plan for the Greater Sage Grouse in Idaho.

Purpose and Need for Action

The SWIE revised Forest Plans identified the need to include management direction to focus restoration activities in habitats for species of concern (Boise and Payette Forest Plans, p. II-10 and, Sawtooth Forest Plan, p. II-9). However, while the 2003 Forest Plans include general direction that addresses this need, they do not include specific direction that spatially prioritizes one habitat area over another at scales smaller than Forest Plan management areas. Recognizing the importance of completing this task, the Responsible Official included, in each of the 2003 Plans, Forest Plan wildlife objective (WIOB03), which calls for prioritizing wildlife habitat to be restored at a mid- or Forest-scale using information from sources such as species habitat models and fine scale analyses.

Therefore, the purpose of this action is twofold: (1) To amend management direction and/or other components of the SWIE Forest Plans to reflect findings and priorities identified in the WCS as needed to guide Forest Plan implementation for the remainder of this planning period; and (2) to update the wildlife assessments pertaining to 36 CFR 219.19 (1982) as needed to reflect findings in updated analyses, as well as outcomes anticipated from implementing the amended Forest Plans.

Proposed Action

The proposed action is to implement nonsignificant Forest Plan amendments that will include new or modified management direction and/or other components of the three Forest Plans, as needed, to reflect findings and priorities identified in the WCS to guide Forest Plan implementation for the remainder of this planning period.

Responsible Officials

The Responsible Officials are the three Forest Supervisors for the Boise, Payette, and Sawtooth National Forests:

Richard A. Smith, Forest Supervisor for the Boise National Forest, USDA—Forest Service; 1249 South Vinnell Way, Suite 200, Boise, Idaho 83709.

Suzanne C. Rainville, Forest Supervisor for the Payette National Forest, USDA—Forest Service; 800 West Lakeside Avenue, McCall, Idaho 83638.

Jane P. Kollmeyer, Forest Supervisor for the Sawtooth National Forest, USDA—Forest Service; 2647 Kimberly Road East, Twin Falls, Idaho 83301.

Nature of Decision To Be Made

The Responsible Officials will review the Final EIS and determine if the 2003 Plan for his/her respective Forest should be amended and/or modified, or if the current Forest Plan should remain unchanged.

Scoping Process

Written comments must be received within 30 days from the day following publication of this NOI in the Federal Register. Providing comments within this time period ensures that they will be available to the Forest Service at a time when it can meaningfully consider them during preparation of the specific proposed amendments and Draft EIS.

Additional opportunities for public participation will be provided following completion of specific proposed amendments, prior to release of the Draft EIS. Information and status updates of this amendment process, including specific proposed amendments, will begin to be posted on the Web site, http://www.fs.fed.us/r4/boise/, by early winter 2007.

Early Notice of Importance of Public Participation in Subsequent Environmental Review

A legal notice will be published in the newspaper of record for each National Forest and a Notice of Availability (NOA) will be published in the Federal Register to inform the public when the Draft EIS is available for review and comment. The Draft EIS will be distributed to all parties who respond during the scoping process, or who otherwise notify the agency at some point following publication of this NOI of their interest to continue to receive information pertaining to this proposal.

The comment period on the Draft EIS will end 90 days from the date the Environmental Protection Agency publishes the NOA in the Federal Register.

The Forest Service believes, at this early stage, it is important to give reviewers notice of several court rulings related to public participation in the environmental review process. First, reviewers of Draft EISs must structure their participation in the environmental review of the proposal so that it is meaningful and alerts an agency to the reviewer's position and contentions. Vermont Yankee Nuclear Power Corp. v. NRDC, 435 U.S. 519, 553 (1978). Also, environmental objections that could be raised at the Draft EIS stage but that are not raised until after completion of the final environmental impact statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the Draft EIS should be as specific as possible. It is also helpful if comments refer to specific pages or chapters of the draft statement. Comments may also address the adequacy of the Draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 7, 2007.
Richard A. Smith,
Forest Supervisor, Boise National Forest.

[FR Doc. 07-4552 Filed 9-13-07; 8:45 am]

BILLING CODE 3410-11-M